DEPARTMENT OF COMMERCE

International Trade Administration

[A-583-833]

Notice of Amended Final Determination of Sales at Less Than Fair Value: Certain Polyester Staple Fiber From Taiwan

AGENCY: Import Administration, International Trade Administration, Department of Commerce.

SUMMARY: On March 30, 2000, the Department of Commerce published its final determination of sales at less than fair value of certain polyester staple fiber from Taiwan (see 65 FR 16877). The petitioners and Nan Ya Plastics Corporation filed allegations of ministerial errors with respect to the calculations for Nan Ya Plastics Corporation.

Based on our analysis of the comments received, we have made changes in the margin calculations for Nan Ya Plastics Corporation and the all others rate. The final weighted-average dumping margin for Nan Ya Plastics Corporation is now 5.77 percent and the all others rate is 7.53 percent.

EFFECTIVE DATE: April 27, 2000.

FOR FURTHER INFORMATION CONTACT: Cynthia Thirumalai or Gregory Campbell, Import Administration, International Trade Administration, U.S. Department of Commerce, Washington, D.C. 20230; telephone: (202) 482-4087 or 482-2239, respectively.

SUPPLEMENTARY INFORMATION:

The Applicable Statute and Regulations

Unless otherwise indicated, all citations to the statute are references to provisions of the Tariff Act of 1930 (“the Act”) as amended by the Uruguay Round Agreements Act (“URAA”). In addition, unless otherwise indicated, all citations to the Department of Commerce's (“the Department's”) regulations refer to 19 CFR Part 351 (April 1999).

Case History

Since the final determination of this investigation (see 65 FR 16877 (March 30, 2000) (“Final Determination”)), the following events have occurred:

On April 3, 2000, the petitioners ¹ filed an allegation that the Department committed ministerial errors, as defined in 19 CFR 351.224, in its final calculations for Nan Ya Plastics Corporation (“Nan Ya”). Nan Ya responded to the petitioners’ allegation and also filed its own allegation of ministerial errors on April 10, 2000. On April 14, 2000, the petitioners commented on Nan Ya's allegation.

¹ Arteva Specialties S.a.r.l.,d/b/a KoSa; Wellman, Inc; and Intercontinental Polymers, Inc.

Scope of Investigation

For the purposes of this investigation, the product covered is certain polyester staple fiber (“PSF”). Certain polyester staple fiber is defined as synthetic staple fibers, not carded, combed or otherwise processed for spinning, of polyesters measuring 3.3 decitex (3 denier, inclusive) or more in diameter. This merchandise is cut to lengths varying from one inch (25 mm) to five inches (127 mm). The merchandise subject to this investigation may be coated, usually with a silicon or other finish, or not coated. PSF is generally used as stuffing in sleeping bags, mattresses, ski jackets, comforters, cushions, pillows, and furniture. Merchandise of less than 3.3 decitex (less than 3 denier) classified under the Harmonized Tariff Schedule of the United States (“HTSUS”) at subheading 5503.20.00.20 is specifically excluded from this investigation. Also specifically excluded from this investigation are polyester staple fibers of 10 to 18 denier that are cut to lengths of 6 to 8 inches (fibers used in the manufacture of carpeting).

The merchandise subject to this investigation is classified in the HTSUS at subheadings 5503.20.00.40 and 5503.20.00.60. Although the HTSUS subheadings are provided for convenience and customs purposes, the written description of the merchandise under investigation is dispositive.

Period of Investigation

The period of investigation (“POI”) is April 1, 1998 through March 31, 1999. This period corresponds to each respondent's four most recent fiscal quarters prior to the filing of the petition.

Analysis of Comments Received

Comment 1: Error in the Exchange Rate

The petitioners allege that the Department multiplied the exchange rate by itself prior to converting NTD-denominated adjustments on U.S. sales to U.S. dollar amounts.

The Department's Position:

We agree with the petitioners and have corrected this error. (See Memorandum to R. Moreland, Ministerial Error Allegations Regarding the Final Calculations for Nan Ya Plastics Corporation (“Calculation Memorandum”), April 19, 2000.)

Comment 2: Exclusion of Packing Labor Costs

In using Nan Ya's revised packing material costs as submitted at the beginning of verification, according to the petitioners, the Department failed to add packing labor before calculating total packing costs.

The Department's Position:

We agree with the petitioners that packing labor was not included in total packing expenses. For this amended final determination, we have corrected this error. (See the Calculation Memorandum.)

Comment 3: Error in Calculating U.S. Packing Costs

According to the petitioners, an error in the computer program had the effect of setting Nan Ya's U.S. packing costs to zero prior to their addition to normal value.

The Department's Position:

We agree with the petitioners that there was an error in the computer program which had the effect of setting U.S. packing costs to zero prior to their addition to normal value. We have corrected this error. (See the Calculation Memorandum.)

Comment 4: Bank Charges

The petitioners allege that the Department used a per-kilogram amount for bank charges on one U.S. sale when the reported quantity was in metric tons. While the narrative of the verification report stated that the amount used in the final calculations was a per-metric ton amount, the petitioners state that the supporting documentation for this sale indicates that the amount is actually on a per-kilogram basis.

The Department's Position:

After examining the supporting documentation for this sale, we agree with the petitioners that the amount in the narrative of the verification report that was used in the final calculations was a per-kilogram amount. Since Nan Ya's sales are reported on a metric-ton basis, we have recalculated the bank charges on this one sale on a metric-ton basis. (See the Calculation Memorandum.)

Comment 5: Fiber Scrap Adjustment

The petitioners allege that the Department relied on an incorrect fiber scrap adjustment factor in its margin calculation for the final determination. Specifically, the petitioners argue that the adjustment factor used by the Department to adjust Nan Ya's overstated scrap credit incorrectly used the inflated scrap credit amount as the denominator rather than the actual scrap amount produced.

Nan Ya maintains that the Department calculated the fiber scrap adjustment correctly. As evidence, Nan Ya points out that the multiplication of the reported scrap amount found in the database by “(1—adjustment factor)” yields as its result the actual scrap amount found at verification.

The Department's Position:

We agree with Nan Ya that the fiber scrap adjustment factor used in the final determination was correct. This adjustment factor was calculated by taking the difference between Nan Ya's reported scrap and its actual scrap produced, and then dividing this difference by its reported scrap. This adjustment factor was applied to the reported scrap amount to adjust it to reflect the actual scrap produced. Since we applied the adjustment factor to the reported amount, it was appropriate to use the reported amount as the basis (i.e., denominator) for the calculation of the adjustment factor. The petitioners' suggestion would amount to calculating an adjustment factor on a different basis than the item which is to be adjusted. Therefore, we have not adjusted our calculation. (See the Calculation Memorandum.)

Comment 6: Constructed Date of Sale

In calculating a constructed date of sale for certain of Nan Ya's U.S. sales with incorrect sale dates, the Department subtracted from the date of shipment the average number of days between shipment date and sale date for correctly reported sales. However, state the petitioners, the function the Department used to converted the average number of days between sale and shipment to an integer truncated the average value instead of rounding it. As a result, the average number of days was understated by one day.

The Department's Position:

We agree with the petitioners that the function used in the computer program to convert the average number of days between sale and shipment to an integer truncated the result. Since a more accurate result would be obtained by rounding, we have rounded the average days between sale and shipment to the nearest whole number for this amended final determination. (See the Calculation Memorandum.)

Comment 7: Indirect Selling Expenses on U.S. Sales

Nan Ya states that the Department failed to include in the final calculations its revised indirect selling expenses on U.S. sales as presented at verification and instead used the information in its September 3, 1999, sales listing submitted prior to verification.

Based mainly upon imprecise statements in the narrative of the verification report and Nan Ya's rebuttal brief, and the omission of detail in the final calculation memorandum for Nan Ya, the petitioners argue that the Department intended to use the information in the sales listing of September 3, 1999.

The Department's Position:

We agree with Nan Ya that we should have used its revised indirect selling expenses as presented at verification in the final determination and have corrected our error in this amended final determination. (See the Calculation Memorandum.)

Comment 8: Revision of Control Numbers

While the Department corrected the control numbers used for product matching purposes based on information found at verification with respect to fiber type, Nan Ya alleges that it neglected to correct the separate control numbers for home market sales as used in the sales-below-cost test.

The Department's Position:

We agree with Nan Ya that the control numbers assigned to home market sales in preparation for the sales-below-cost test should have been revised based on information found at verification with respect to fiber type. To correct this error, we have constructed new control numbers on home market sales for purposes of matching these sales to their respective costs of production. (See the Calculation Memorandum.)

Other Comments on the Calculation of Constructed Value

We received other comments pertaining to the calculation of constructed value. We note that there were no comparisons to constructed value in either the final determination or this amended final determination. In addition, we find that our calculations contained one additional ministerial error which was not identified by any party to this proceeding. Specifically, we erroneously included inventory carrying costs when calculating constructed value. The comments from interested parties and a discussion of the additional error we found are addressed in the Calculation Memorandum. Changes to the computer program, where appropriate, have been made in the event this proceeding results in an antidumping duty order and the computer program from this amended final determination gets used again in a future segment of this proceeding.

Suspension of Liquidation

In accordance with section 735(c)(1)(B) of the Act, we are directing the Customs Service (“Customs”) to suspend liquidation of all imports of the subject merchandise from Taiwan, produced and exported by Nan Ya that are entered, or withdrawn from warehouse, for consumption on or after the date of publication of this notice in the Federal Register. Customs will continue to suspend liquidation on all imports of the subject merchandise from Taiwan produced and exported by Far Eastern Textile, Ltd. and all other producers/exporters. Customs shall require a cash deposit or the posting of a bond equal to the weighted-average amount by which normal value exceeds the export price as indicated in the chart below. These suspension of liquidation instructions will remain in effect until further notice.

The weighted-average dumping margins are as follows:

Exporter/manufacturer | Weighted-average margin percentage | Critical circumstances
FETL | 9.51 | No.
Nan Ya | 5.77 | No.
All Others | 7.53 | No.

The rate for all other producers and exporters applies to all entries of the subject merchandise except for entries from exporters that are identified individually above.

ITC Notification

In accordance with section 735(d) of the Act, we have notified the International Trade Commission (“ITC”) of our amended final determination.

This determination is issued and published in accordance with sections 735(d) and 777(i)(1) of the Act.

Dated: April 20, 2000.
Troy H. Cribb,
Acting Assistant Secretary for Import Administration.

[FR Doc. 00-10531 Filed 4-26-00; 8:45 am]

BILLING CODE 3510-DS-P